DEPARTMENT OF VETERANS AFFAIRS

Voluntary Service National Advisory Committee, Notice of Meeting

The Department of Veterans Affairs (VA) gives notice under the Federal Advisory Committee Act, 5 U.S.C. App. 2, that the VA Voluntary Service (VAVS) National Advisory Committee (NAC) will meet on April 27-29, 2022 at the DoubleTree by Hilton located at 3203 Quebec Street in Denver, Colorado 80207. The meeting sessions will begin and end as follows:

Meeting date(s): | Meeting time(s):
Wednesday, April 27, 2022 | 9:00 a.m. to 7:30 p.m. Mountain Time (MT).
Thursday, April 28, 2022 | 8:30 a.m. to 4:30 p.m. MT.
Friday, April 29, 2022 | 9:00 a.m. to 7:30 p.m. MT.

The meeting sessions are open to the public.

The Committee, comprised of 55 major Veteran, civic, and service organizations, advises the Secretary, through the Under Secretary for Health, on the coordination and promotion of volunteer activities and strategic partnerships within VA health care facilities, in the community, and on matters related to volunteerism and charitable giving.

Agenda topics will include the NAC goals and objectives; review of minutes from the May 26-28, 2021 meeting; an update on VA Center for Development and Civic Engagement (CDCE) activities; Veterans Health Administration update; subcommittee reports; review of standard operating procedures; review of organization data; Federal Advisory Committee Act training provided by the VA Advisory Committee Management Office; human-centered design; maximizing social media; and any new business.

No time will be allocated at this meeting for receiving oral presentations from the public. However, the public may submit written statements for the Committee's review to Dr. Sabrina C. Clark, Designated Federal Officer, VA Center for Development and Civic Engagement (15CDCE), Department of Veterans Affairs, 810 Vermont Avenue NW, Washington, DC 20420, or email at Sabrina.Clark@VA.gov. Any member of the public wishing to attend the meeting or seeking additional information should contact Dr. Clark at 202-461-7300.

Dated: April 4, 2022.
Jelessa M. Burney,
Federal Advisory Committee Management Officer.

[FR Doc. 2022-07410 Filed 4-6-22; 8:45 am]

BILLING CODE 8320-01-P